DEPARTMENT OF HOMELAND SECURITY

U.S. Customs and Border Protection

Notice of Discontinuation of H-2A and H-2B Temporary Worker Visa Exit Program Pilot CBP Dec. 11-16

AGENCY: U.S. Customs and Border Protection, Department of Homeland Security.

ACTION: General notice; discontinuation of program pilot.

SUMMARY: This Notice announces that CBP is discontinuing the H-2A and H-2B Temporary Worker Visa Exit Program Pilot, effective September 29, 2011. The pilot began on December 8, 2009. It required temporary workers in H-2A or H-2B nonimmigrant classifications who enter the United States at the port of San Luis, Arizona, or the port of Douglas, Arizona, to depart (at the time of their final departure) from these respective ports and to submit certain biographical and biometric information at one of the kiosks established for this purpose.

DATES: The program pilot will be discontinued on September 29, 2011.

FOR FURTHER INFORMATION CONTACT: Ms. Erin M. McGillicuddy, Program Manager, Admissibility and Passenger Programs, Office of Field Operations, U.S. Customs and Border Protection, via e-mail at erin.mcgillicuddy@dhs.gov.

SUPPLEMENTARY INFORMATION: On December 18, 2008, U.S. Customs and Border Protection (CBP) published a notice in the Federal Register announcing that CBP was establishing a pilot program for a land-border exit system for H-2A temporary workers at certain designated ports of entry effective August 1, 2009.¹ 73 FR 77049.

¹ The H-2A nonimmigrant classification applies to aliens seeking to perform agricultural labor or services of a temporary or seasonal nature in the United States. Immigration and Nationality Act sec. 101(a)(15)(H)(ii)(a), 8 U.S.C. 1101(a)(15)(H)(ii)(a); see generally 8 CFR 214.12(h)(5)(a)(2) (describing requirements for H-2A classification).

The notice provided that H-2A workers who enter the United States at either the port of San Luis, Arizona, or the port of Douglas, Arizona, as participants in the Temporary Worker Visa Exit Program must depart from one of those ports and submit certain biographical and biometric information at one of the kiosks established for this purpose.

On December 19, 2008, CBP published a second notice in the Federal Register, “Notice of Expansion of Temporary Worker Visa Exit Program Pilot to Include H-2B Temporary Workers.” 73 FR 77817.²

² The H-2B nonimmigrant classification applies to foreign workers entering the United States to perform temporary, non-agricultural labor or services. INA sec. 101(a)(15)(H)(ii)(b), 8 U.S.C. 1101(a)(15)(H)(ii)(b); see generally 8 CFR 214.1(a)(2)(h)(62) (designation for H-2B classification).

CBP published a third notice in the Federal Register on August 25, 2009 announcing the postponement of the commencement date of the H-2A and H-2B temporary Worker Visa Exit Program Pilot until December 8, 2009. 74 FR 42909.

The pilot has been operating for more than a year. The pilot tested the processes and technology used to monitor compliance and record the final departures of persons admitted under temporary worker visas as well as its general design and implementation. During this period, DHS gathered enough data to assess the pilot's technology, design and implementation and to identify lessons learned that can be applied to programs that may have similar requirements. The duration of the pilot has also allowed for the seasonal work cycle during which H-2A and H-2B visa holders typically enter and depart from the United States for agricultural or other temporary employment.

Among the challenges that arose during the pilot were that the persons subject to the pilot had trouble understanding the requirements and using the kiosks; although the pilot was designed to be an automated system, considerable time and resources by CBP field personnel were needed to assist the pilot participants in recording their exit; kiosk operability was unreliable and inconsistent due in large part to the harsh desert climate; and, the physical layout of the departure area at the border crossing limited CBP's ability to ensure compliance. The pilot reinforced the need to gain a full understanding of the covered population's skill sets in order to craft effective public information materials and to utilize appropriate technology that will support a high degree of compliance. For future programs, DHS will seek to ensure that the physical requirements for software and hardware reflect the extremes that can be faced in harsh border climates. The pilot also demonstrated that DHS must evaluate carefully the considerable time and resources that may be required by field personnel in order to continually support and explain processes used infrequently by a non-immigrant population subject to a program specific to that population.

Accordingly, this notice announces that the H-2A and H-2B Temporary Worker Visa Exit Program Pilot is being discontinued immediately. Any alien that is admitted on an H-2A or H-2B visa into the United States at the ports of San Luis, Arizona, and Douglas, Arizona, will no longer be subject to the requirements of the program pilot. Aliens who have already been admitted on an H-2A or H-2B visa to the United States at the ports of San Luis, Arizona and Douglas, Arizona will not be required to depart the United States from San Luis or Douglas and will not have to submit the biographical or biometric information that was required under the pilot program.

Regardless of their date or place of admission to the U.S., all H-2 workers are subject to the procedures governing H-2 nonimmigrants generally. H-2 workers are issued a Form I-94, Arrival/Departure Record, upon admission to the U.S. The form indicates the date of admission to the United States, the nonimmigrant classification, and the authorized period of admission. Once admitted to the United States, H-2 workers are required to comply with all terms and conditions of their admission and depart the United States on or before the expiration of the authorized period of stay unless the worker properly extends his or her status or changes his or her status and extends his or her period of authorized admission. H-2 workers must surrender the departure portion of the Form I-94 upon final exit from the United States.

Dated: September 21, 2011.
Alan D. Bersin,
Commissioner, U.S. Customs and Border Protection.

[FR Doc. 2011-24716 Filed 9-28-11; 8:45 am]

BILLING CODE 9111-14-P